DEPARTMENT OF THE INTERIOR

Bureau of Land Management

[OR LLOPM00100 14X L63340000 HD0000 HAG14-0011]

Call for Nominations, Western Oregon, Medford District Resource Advisory Committee

AGENCY: Bureau of Land Management, Interior.

ACTION: Notice.

SUMMARY: The Secretary of the Interior is requesting four nominations for representatives to serve on the Medford District Resource Advisory Committee (RAC). The Committee will advise the Secretary, through the Bureau of Land Management (BLM), on the selection and prioritization of projects funded under Title II of the Secure Rural Schools and Community Self-Determination Act. The BLM will accept public nominations for 45 days after the publication of this notice.

DATES: Submit nomination packages to the address listed below, on or before March 27, 2014.

ADDRESSES: Advisory Committee nomination forms are available at the BLM Medford District Office and also on www.blm.gov/or/rac. Send completed nomination forms to Jim Whittington, BLM Medford District Office, 3040 Biddle Road, Medford, OR 97504, 541-618-2200.

FOR FURTHER INFORMATION CONTACT: Stephen Baker, BLM Oregon State Office, P.O. Box 2965, Portland, OR 97208, 503-808-6306; sabaker@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Secure Rural Schools and Community Self Determination Act was extended to provide stability for local counties by compensating them, in part, for the decrease in funds formerly derived from the harvest of timber on Federal lands. Pursuant to the Act, five Committees serve western Oregon BLM districts that contain Oregon and California grant lands and Coos Bay Wagon Road grant lands. Committees consist of 15 local citizens representing a wide array of interests.

The RACs provide a mechanism for local community collaboration with Federal land managers as they select projects to be conducted on Federal lands or that will benefit resources on Federal lands using funds under Title II of the Act.

Committee membership must be balanced in terms of the categories of interest represented. Prospective members are advised that membership on a RAC calls for a substantial commitment of time and energy.

Any individual or organization may nominate one or more persons to serve on the Committee. Individuals may also nominate themselves or others. Nominees must reside within one of the counties that are (in whole or in part) within the BLM District boundaries of the Committee on which membership is sought. Nominees will be evaluated based on their education, training, and experience relating to land use issues and knowledge of the geographical area of the Committee. Nominees must also demonstrate a commitment to collaborative resource decision-making. The Obama Administration prohibits individuals who are currently federally registered lobbyists from serving on all Federal Advisory Committee Act (FACA) and non-FACA boards, committees, or councils.

The BLM is collecting nominations for persons who:

• Represent archaeological and historical interests;

• Represent nationally or regionally recognized wild horse and burro interest groups, wildlife or hunting organizations, or watershed associations;

• Represent American Indian tribes within or adjacent to the area for which the committee is organized;

• Hold State elected office (or a designee).

The Medford District RAC advises Federal officials on projects associated with Federal lands within the Medford District and Klamath Falls Resource Area in the Lakeview District which includes lands in Coos, Curry, Douglas, Jackson, and Josephine Counties and small portions of west Klamath County.

Before including your address, phone number, email address, or other personal identifying information in your comment, you should be aware that your entire comment—including your personal identifying information—may be made publicly available at any time. While you can ask us in your comment to withhold your personal identifying information from public review, we cannot guarantee that we will be able to do so.

Authority: 43 CFR 1784.4-1.

Dayne Barron,
Medford District Manager.

[FR Doc. 2014-04056 Filed 2-24-14; 8:45 am]

BILLING CODE 4310-33-P